FEDERAL COMMUNICATIONS COMMISSION

[MB Docket No. 03-185; DA 14-996]

Media Bureau Seeks Comment on Petition for Blanket Extension or Waiver

AGENCY: Federal Communications Commission.

ACTION: Notice.

SUMMARY: This document announces that Media Bureau of the Federal Communications Commission is seeking comment on a Petition for Blanket Extension or Waiver filed by Advanced Television Broadcasting Alliance requesting that the Commission grant a “blanket extension or waiver” and extend the expiration date of all outstanding construction permits for new digital low power television and TV translator stations to the September 1, 2015 digital transition deadline.

DATES: Comments are due August 14, 2014. Reply comments are due August 29, 2014.

ADDRESSES: Office of the Secretary, Federal Communications Commission, 445 12th Street SW., Room TW-A325, Washington, DC 20554.

FOR FURTHER INFORMATION CONTACT: Shaun Maher, Video Division, Media Bureau, Federal Communications Commission, Shaun.Maher@fcc.gov, (202) 418-2324.

SUPPLEMENTARY INFORMATION: This is a synopsis of the Media Bureau's Public Notice (Notice) in MB Docket No. 03-185; DA 14-996, released July 14, 2014. Advance Television Broadcasting Alliance (ATBA) filed its Petition requesting that the Federal Communications Commission (Commission) grant a “blanket extension or waiver” and extend the expiration date of all outstanding construction permits for new digital low power television (LPTV) and TV translator stations to the September 1, 2015 digital transition deadline. This proceeding will be treated as “permit but disclose” for purposes of the Commission's ex parte rules. See generally 47 CFR 1.1200-1.1216. As a result of the permit-but-disclose status of this proceeding, ex parte presentations will be governed by the procedures set forth in § 1.1206 of the Commission's rules applicable to non-restricted proceedings. Given that all comments will be posted to the Commission's Electronic Comment Filing System, the Media Bureau is waiving the requirement that parties be served hard copies of the comments and reply comments in this proceeding, pursuant to § 1.3 of the Commission's rules. Interested parties may file comments on or before August 14, 2014 and reply comments on or before August 29, 2014. All filings must reference MB Docket No. 03-185. In order to be considered part of the official record, comments must be filed using: (1) The Commission's Electronic Comment Filing System (ECFS), (2) the Federal Government's eRulemaking Portal, or (3) by filing paper copies. Comments sent via email to the Commission that do not use the ECFS form described below will be considered informal and will not be part of the official record.

• Electronic Filers: Comments may be filed electronically using the Internet by accessing the ECFS: http://www.fcc.gov/cgb/ecfs/ or the Federal eRulemaking Portal: http://www.regulations.gov. Filers should follow the instructions provided on the Web site for submitting comments.

• For ECFS filers, in completing the transmittal screen, filers should include their full name, U.S. Postal Service mailing address, and the applicable docket number: MB Docket No. 03-185. Parties may also submit an electronic comment by Internet email. To get filing instructions, filers should send an email to ecfs@fcc.gov, and include the following words in the body of the message: “get form”. A sample form and instructions will be sent in response.

• Paper Filers: Parties who choose to file by paper must file an original and four copies of each filing. Filings can be sent by hand or messenger delivery, by commercial overnight courier, or by first-class or overnight U.S. Postal Service mail (although we continue to experience delays in receiving U.S. Postal Service mail). All filings must be addressed to the Commission's Secretary, Marlene H. Dortch, Office of the Secretary, Federal Communications Commission.

• All hand-delivered or messenger-delivered paper filings for the Commission's Secretary must be delivered to FCC Headquarters at 445 12th St. SW., Room TW-A325, Washington, DC 20554. All hand deliveries must be held together with rubber bands or fasteners. Any envelopes must be disposed of before entering the building. The filing hours are 8:00 a.m. to 7:00 p.m.

• Commercial overnight mail (other than U.S. Postal Service Express Mail and Priority Mail) must be sent to 9300 East Hampton Drive, Capitol Heights, MD 20743.

• U.S. Postal Service first-class mail, Express Mail, and Priority Mail must be addressed to 445 12th Street SW., Washington, DC 20554.

One copy of each filing must be sent to Shaun Maher, Media Bureau, Video Division, Room 2-C864, 445 12th Street SW., Washington, DC 20554 or Shaun.Maher@fcc.gov. Parties must also serve one copy with the Commission's copy contractor, Best Copy and Printing, Inc. (BCPI), Portals II, 445 12th Street SW., Room CY-B402, Washington, DC 20554, (202) 488-5300, or via email to fcc@bcpiweb.com.

Filings are available through ECFS and are also available for public inspection and copying during regular business hours at the FCC Reference Information Center, Portals II, 445 12th St. SW., Room CY-A257, Washington, DC 20554, telephone (202) 418-0270. They may also be purchased from the Commission's duplicating contractor, Best Copy and Printing, Inc., Portals II, 445 12th St. SW., Room CY-B402, Washington, DC 20554, telephone (202) 488-5300, facsimile (202) 488-5563, or via email at fcc@bcpiweb.com.

Alternate formats of this Public Notice (computer diskette, large print, audio recording, or Braille) are available to persons with disabilities by contacting the Consumer and Governmental Affairs Bureau at (202) 418-0530 or (202) 418-0432 (TTY).

Federal Communications Commission.
David Brown,
Associate Chief, Video Division, Media Bureau.

[FR Doc. 2014-17714 Filed 7-25-14; 8:45 am]

BILLING CODE 6712-01-P